DEPARTMENT OF TRANSPORTATION

Federal Transit Administration

FY 2011 Discretionary Sustainability Funding Opportunity; Transit Investments for Greenhouse Gas and Energy Reduction (TIGGER) and Clean Fuels Grant Program, Augmented With Discretionary Bus and Bus Facilities Program

AGENCY: Federal Transit Administration (FTA), DOT.

ACTION: FTA Sustainability Program Funds: Announcement of Project Selections.

SUMMARY: The U.S. Department of Transportation's (DOT) Federal Transit Administration (FTA) announces the selection of Fiscal Year (FY) 2011 projects funded under two discretionary programs: The Transit Investments for Greenhouse Gas and Energy Reduction (TIGGER) program and the Clean Fuels Grant program enhanced with Section 5309 Bus and Bus Facilities program funds. Both programs support the U.S. Department of Transportation's environmental sustainability efforts and were announced in FTA's Notice of Funding Availability (NOFA) on June 24, 2011. The TIGGER program makes funds available for capital investments that will reduce the energy consumption or greenhouse gas emissions of public transportation systems. The Clean Fuels Grant program makes funds available to assist nonattainment and maintenance areas in achieving or maintaining the National Ambient Air Quality Standards for ozone and carbon monoxide and supports emerging clean fuel and advanced propulsion technologies for transit buses and markets for those technologies.

FOR FURTHER INFORMATION CONTACT: Successful applicants should contact the appropriate FTA Regional office (Appendix) for specific information regarding applying for these funds or specific questions. For general program information on TIGGER, contact Matthew Lesh, Office of Mobility Innovation, (202) 366-0953, email: matthew.lesh@dot.gov. For general program information on the Clean Fuels Grant program, contact Vanessa Williams, Office of Program Management, at (202) 366-4818, email: vanessa.williams@dot.gov.

SUPPLEMENTARY INFORMATION: Clean Fuels: A total of $51.5 million was available for FTA's Clean Fuels Grant program in FY 2011. A total of 111 applicants requested approximately $450.5 million indicating significant demand for available funds. Of the proposals submitted, 20 were from attainment areas requesting $80.8 million and were only considered for Bus and Bus Facilities program funds. The project proposals were evaluated based on the criteria detailed in the June 24, 2011 NOFA. The projects selected and shown in Table 1 will provide a reduction in transportation-related pollutants and improve air quality. Table 1 also includes the five projects selected from attainment areas that will be funded for a total of $11.3 million with FY 2011 Section 5309 Bus and Bus Facilities funding. Clean Fuels and Bus projects can be funded at up to 83 percent Federal share for eligible vehicle purchases. The 83 percent share is a blended figure representing 80 percent of the vehicle and 90 percent of the vehicle-related equipment to be acquired in compliance with the Clean Air Act. The 83 percent share does not apply to facilities, for which the costs are more variable. The eligibility of facility-related cost element at the 90 percent share will be reviewed for eligibility of the higher Federal share on a case-by-case basis as part of the grant application process. The FY 2011 Consolidated Appropriations Act (Department of Defense and Full-Year Continuing Appropriations Act, 2011, Pub L. 112-10) allows a 90 percent Federal share for total cost of a biodiesel bus and 90 percent Federal share for the net capital cost of factory installed hybrid electric propulsion systems and any equipment related to such a system. The Clean Fuels Grant and Bus program funds allocated in this announcement must be obligated in a grant by September 30, 2014.

TIGGER: A total of $49.9 million was available for FTA's TIGGER program in FY 2011. A total of 155 applicants requested approximately $616 million, indicating significant demand for available funds. Project proposals were evaluated based on the criteria detailed in the June 24, 2011 NOFA. Projects selected for implementation with the TIGGER program funds are included in Table 2. TIGGER projects can be funded at up to 100 percent Federal share; however, the local share ratio described in the project proposal must be maintained in the grant application. Recipients of TIGGER funds must report on an annual basis: (1) Actual annual energy consumed within the project scope attributable to the investment for the energy consumption projects; (2) actual greenhouse gas emissions within the project scope attributable to the investment for greenhouse gas reduction projects; and, (3) actual annual reductions or increase in operating costs to the investment for all projects. The TIGGER funds allocated in this announcement must be obligated by September 30, 2013.

Project Implementation: Grantees selected for competitive discretionary funding should work with their FTA regional office to finalize the application in FTA's Transportation Electronic Award Management (TEAM) system, so that funds can be obligated expeditiously. Funds must be used for the purposes specified in the competitive proposal and developed within the grant application. A discretionary project identification number has been assigned to each project for tracking purposes and must be used in the TEAM application. Selected projects have pre-award authority as of November 17, 2011. Post-award reporting requirements include submission of the Financial Federal Report and Milestone reports in TEAM as appropriate (see FTA.C.5010.1D).

The grantee must comply with all applicable Federal statutes, regulations, executive orders, FTA circulars, and other Federal administrative requirements in carrying out the project supported by the FTA grant. FTA emphasizes that grantees must follow all third-party procurement guidance, as described in FTA.C.4220.1F.

Issued in Washington, DC, this 6th day of December, 2011.
Peter Rogoff,
Administrator.

Appendix A

FTA Regional and Metropolitan Offices
Mary Beth Mello, Regional Administrator, Region 1—Boston, Kendall Square, 55 Broadway, Suite 920, Cambridge, MA 02142-1093, Tel. 617-494-2055. | Robert C. Patrick,Regional Administrator, Region 6—Ft. Worth, 819 Taylor Street, Room 8A36, Ft. Worth, TX 76102, Tel. 817-978-0550.
States served: Connecticut, Maine, Massachusetts, New Hampshire, Rhode Island, and Vermont. | States served: Arkansas, Louisiana, Oklahoma, New Mexico and Texas.
Anthony Carr, Acting Regional Administrator, Region 2—New York, One Bowling Green, Room 429, New York, NY 10004-1415, Tel. 212-668-2170. | Mokhtee Ahmad, Regional Administrator, Region 7—Kansas City, MO, 901 Locust Street, Room 404, Kansas City, MO 64106, Tel. 816-329-3920.
States served: New Jersey, New York. | States served: Iowa, Kansas, Missouri, and Nebraska.
New York Metropolitan Office, Region 2—New York, One Bowling Green, Room 428, New York, NY 10004-1415, Tel. 212-668-2202. |
Brigid Hynes-Cherin, Regional Administrator, Region 3—Philadelphia, 1760 Market Street, Suite 500, Philadelphia, PA 19103-4124, Tel. 215-656-7100. | Terry Rosapep, Regional Administrator, Region 8—Denver, 12300 West Dakota Ave., Suite 310, Lakewood, CO 80228-2583, Tel. 720-963-3300.
States served: Delaware, Maryland, Pennsylvania, Virginia, West Virginia, and District of Columbia. | States served: Colorado, Montana, North Dakota, South Dakota, Utah, and Wyoming.
Washington, DC Metropolitan Office, 1990 K Street, NW., Room 510, Washington, DC 20006, Tel. 202-219-3562. |
Yvette Taylor, Regional Administrator, Region 4—Atlanta, 230 Peachtree Street NW., Suite 800, Atlanta, GA 30303, Tel. 404-865-5600. | Leslie T. Rogers, Regional Administrator, Region 9—San Francisco, 201 Mission Street, Room 1650, San Francisco, CA 94105-1926, Tel. 415-744-3133.
States served: Alabama, Florida, Georgia, Kentucky, Mississippi, North Carolina, Puerto Rico, South Carolina, Tennessee, and Virgin Islands. | States served: American Samoa, Arizona, California, Guam, Hawaii, Nevada, and the Northern Mariana Islands.
| Los Angeles Metropolitan Office, Region 9—Los Angeles, 888 S. Figueroa Street, Suite 1850, Los Angeles, CA 90017-1850, Tel. 213-202-3952.
Marisol Simon, Regional Administrator, Region 5—Chicago, 200 West Adams Street, Suite 320, Chicago, IL 60606, Tel. 312-353-2789. | Rick Krochalis, Regional Administrator, Region 10—Seattle, Jackson Federal Building, 915 Second Avenue, Suite 3142, Seattle, WA 98174-1002, Tel. 206-220-7954.
States served: Illinois, Indiana, Michigan, Minnesota, Ohio, and Wisconsin. | States served: Alaska, Idaho, Oregon, and Washington.
Chicago Metropolitan Office, Region 5—Chicago, 200 West Adams Street, Suite 320, Chicago, IL 60606, Tel. 312-353-2789. |

BILLING CODE P

[FR Doc. 2011-31694 Filed 12-9-11; 8:45 am]

BILLING CODE C